LEGAL SERVICES CORPORATION

Sunshine Act Meetings of the Board of Directors; Notice

Date and Time: The Legal Services Corporation Board of Directors will meet on September 21, 2009, commencing at 1 p.m. Eastern Daylight Savings Time.

Public Observation: Members of the public who wish to observe the meeting may do so in person at the offices of the Legal Services Corporation or by listening to it live by following the telephone call-in directions given below. Anyone who calls in should keep his/her telephone muted to eliminate background noises. Comments from the public may from time to time be solicited by the Chairman of the Board.

Call-in Directions for Open Sessions:

• Call toll-free number: 1(866) 266-3378;

• When prompted, enter the following Conference Identification number: 2022951504 followed by the “#” sign; and

• When prompted, enter the following Pass Code: 2223 followed by the “#” sign; and

• When connected to the call, please “MUTE” your telephone immediately.

Location: Legal Services Corporation, 3333 K Street, NW., Washington, DC 20007.

Status of Meeting: Open.

Matters To Be Considered:

1. Approval of agenda.

2. Consider and act on adoption of LSC's 2009 Justice Gap Report.

3. Consider and act on the election of Vice Chairman of the Board of Directors.

4. Consider and act on other business.

5. Consider and act on adjournment of meeting.

Contact Person for Information: Katherine Ward, Executive Assistant to the Vice President & General Counsel, at (202) 295-1500.

Special Needs: Upon request, meeting notices will be made available in alternate formats to accommodate visual and hearing impairments. Individuals who have a disability and need an accommodation to attend the meeting may notify Katherine Ward, at (202) 295-1500.

Dated: September 10, 2009.
Victor M. Fortuno,
Vice President & General Counsel.

[FR Doc. E9-22328 Filed 9-11-09; 4:15 pm]

BILLING CODE 7050-01-P